DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revision to Form EIA-910, “Monthly Natural Gas Marketer Survey”. EIA is requesting a revision to add seven States and the District of Columbia to the survey frame, which consists of natural gas marketers.

DATES: Comments must be filed by July 9, 2004. If you anticipate difficulty in submitting comments within that period, contact the person listed below as soon as possible.

ADDRESSES: Send comments to Elizabeth Campbell, Director of the Natural Gas Division. To ensure receipt of the comments by the due date, submission by FAX at (202) 586-4420 or e-mail at elizabeth.campbell@eia.doe.gov is recommended. The mailing address is: Elizabeth Campbell, Director, Natural Gas Division, Forrestal Building, EI-44, U.S. Department of Energy, Washington, DC 20585. Alternatively, Ms. Campbell may be contacted by telephone at (202) 586-5590.

FOR FURTHER INFORMATION CONTACT: Requests for additional information or copies of any forms and instructions should be directed to Ms. Campbell at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The EIA has been conducting the survey, Form EIA-910, “Monthly Natural Gas Marketer Survey,” since August 2001 in the States of Georgia, Maryland, New York, Ohio and Pennsylvania. The survey collects information from natural gas marketers on the number of customers, volume, and revenue of natural gas sold to residential and commercial end-use customers. The data collected on the EIA-910 is combined with data collected from gas utility companies on Form EIA-857, “Monthly Report of Natural Gas Purchases and Deliveries”. The combined data are published as residential and commercial sector prices in the Natural Gas Monthly and Natural Gas Annual available at http://www.eia.doe.gov.

These States were identified by EIA as having some of the highest and most problematic levels of missing price data for the residential and commercial consumer sectors due to the active customer programs that allow customers to choose to purchase their gas from marketers instead of local distribution or utility companies. Based upon the data already collected on the EIA-910, EIA believes that customers purchase natural gas from marketers because the customers expect to pay lower prices for their gas than if the customers purchased the gas from the local distribution companies or pipelines that deliver the gas. Therefore, EIA's lack of coverage of sales by marketers may lead to price estimates that are higher than the actual prices paid. This bias in the data has serious implications for both public and private users of EIA's data. The implementation of the EIA-910 data to EIA's price estimates in the residential and commercial sectors in 2002 for the States of Georgia, Maryland, New York, Ohio and Pennsylvania has been successful in raising the percent coverage of natural gas prices at the national level from 92.2% in 2001 to 97.9% in 2002 in the residential sector and from 65.8% in 2001 to 78.4% in 2002 in the commercial sector.

Please refer to the proposed forms and instructions http://www.eia.doe.gov/oil_gas/natural_gas/survey_forms/nat_survey_forms.html for more information about the purpose, who must report, when to report, where to submit, the elements to be reported, detailed instructions, provisions for confidentiality, and uses of the information. For instructions on obtaining materials, see the FOR FURTHER INFORMATION CONTACT section.

II. Current Actions

EIA is requesting a revision to add seven States and the District of Columbia to the survey frame. Currently, EIA-910 respondents in Georgia, Maryland, New York, Ohio and Pennsylvania report the number of customers, volumes of natural gas sold, and revenues.

EIA is now proposing to expand the EIA-910 to include reporting in Florida, Illinois, Michigan, New Jersey, Massachusetts, Virginia, West Virginia and the District of Columbia. The selection of the additional States and the District of Columbia is based on the increasing percentage of natural gas sold by marketers and growth patterns in customer choice programs. This expansion of the EIA-910 survey will lead to improved quality of the natural gas price data in the residential and commercial sectors. For example, current published prices in the commercial sector for the proposed new States and the District of Columbia only represent 23 to 63 percent of commercial volumes consumed in those areas. The addition of the new States and the District of Columbia to the EIA-910 survey frame will bring the percent of volumes represented by published prices in the commercial sector to 100 percent in those areas.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is currently estimated to average two hours per monthly response per state. Approximately 87 new responses are expected as a result of the addition of these States and the District of Columbia, resulting in an increase in total annual burden of 2,088 hours. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, May 4, 2004.
Nancy Kirkendall,
Director, Statistics and Methods Group, Energy Information Administration.

[FR Doc. 04-10547 Filed 5-7-04; 8:45 am]

BILLING CODE 6450-01-P